ENVIRONMENTAL PROTECTION AGENCY

[EPA-HQ-OPP-2010-0535; FRL-8835-2]

Cancellation of Pesticides for Non-Payment of Year 2010 Registration Maintenance Fees

AGENCY: Environmental Protection Agency (EPA).

ACTION: Notice.

SUMMARY: Since the amendments of October 1988, the Federal Insecticide, Fungicide, and Rodenticide Act (FIFRA) have required payment of an annual maintenance fee to keep pesticide registrations in effect. The fee due last January 15, 2010, has gone unpaid for 337 registrations. Section 4(i)(5)(G) of FIFRA provides that the EPA Administrator may cancel these registrations by order and without a hearing; orders to cancel all 337 of these registrations have been issued within the past few days.

DATES: A cancellation is effective on the date the cancellation order is signed.

FOR FURTHER INFORMATION CONTACT: John Jamula, Information Technology and Resources Management Division (7502P), Office of Pesticide Programs, Environmental Protection Agency, 1200 Pennsylvania Ave., NW., Washington, DC 20460-0001; telephone number: (703) 305-6426; e-mail address: jamula.john@epa.gov.

SUPPLEMENTARY INFORMATION:

I. General Information

A. Does this Action Apply to Me?

This action is directed to the public in general. Although this action may be of particular interest to persons who produce or use pesticides, the Agency has not attempted to describe all the specific entities that may be affected by this action. If you have any questions regarding the information in this notice, consult the person listed under FOR FURTHER INFORMATION CONTACT.

B. How Can I Get Copies of this Document and Other Related Information?

EPA has established a docket for this action under docket identification (ID) number EPA-HQ-OPP-2010-0535. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

II. Background

Section 4(i)(5) of FIFRA, as amended in October 1988 (Public Law 100-532), December 1991 (Public Law 102-237), and again in August 1996 (Public Law 104-170), requires that all pesticide registrants pay an annual registration maintenance fee, due by January 15 of each year, to keep their registrations in effect. This requirement applies to all registrations granted under FIFRA section 3 as well as those granted under FIFRA section 24(c) to meet special local needs. Registrations for which the fee is not paid are subject to cancellation by order and without a hearing.

The Food, Agriculture, Conservation, and Trade Act Amendments of 1991, Public Law 102-237, amended FIFRA to allow the EPA Administrator to reduce or waive maintenance fees for minor agricultural use pesticides when she determines that the fee would be likely to cause significant impact on the availability of the pesticide for the use. The Agency has waived the fee for 193 minor agricultural use registrations at the request of the registrants.

In fiscal year 2010, maintenance fees were collected in one billing cycle. The Pesticide Registration Improvement Renewal Act (PRIRA) was passed by Congress in October 2007. PRIRA authorized the Agency to collect 22 million dollars in maintenance fees in fiscal year 2010. In late November, 2009, all holders of either FIFRA section 3 registrations or FIFRA section 24(c) registrations were sent lists of their active registrations, along with forms and instructions for responding. They were asked to identify which of their registrations they wished to maintain in effect, and to calculate and remit the appropriate maintenance fees. Most responses were received by the statutory deadline of January 15. A notice of intent to cancel was sent in February, 2010 to companies who did not respond and to companies who responded, but paid for less than all of their registrations. Since mailing the notices of intent to cancel, EPA has maintained a toll-free inquiry number through which the questions of affected registrants have been answered.

Maintenance fees have been paid for about 16,377 FIFRA section 3 registrations, or about 97% of the registrations on file in December, 2009. Fees have been paid for about 2,301 FIFRA section 24(c) registrations, or about 95% of the total on file in December, 2009. Cancellations for non-payment of the maintenance fee affect about 309 FIFRA section 3 registrations and about 28 FIFRA section 24(c) registrations.

The cancellation orders generally permit registrants to continue to sell and distribute existing stocks of the cancelled products until January 15, 2011, one year after the date on which the fee was due. Existing stocks already in the hands of dealers or users, however, can generally be distributed, sold, or used legally until they are exhausted. Existing stocks are defined as those stocks of a registered pesticide product which are currently in the United States and which have been packaged, labeled, and released for shipment prior to the effective date of the cancellation order.

The exceptions to these general rules are cases where more stringent restrictions on sale, distribution, or use of the products have already been imposed, through special reviews or other Agency actions. These general provisions for disposition of stocks should serve in most cases to cushion the impact of these cancellations while the market adjusts.

III. Listing of Registrations Cancelled for Non-Payment

Table 1 of this unit lists all of the FIFRA section 24(c) registrations, and Table 2 of this unit lists all of the FIFRA section 3 registrations which were cancelled for non-payment of the 2010 maintenance fee. These registrations have been cancelled by order and without hearing. Cancellation orders were sent to affected registrants via certified mail in the past several days. The Agency is unlikely to rescind cancellation of any particular registration unless the cancellation resulted from Agency error.

Table 1.—FIFRA Section 24(c) Registrations Cancelled for Non-Payment of 2010 Maintenance Fee
SLN No. | Product Name
001677 CA-00-0011 | Oxy-15
079709 CA-09-0009 | Methyl Bromide 100
059623 CA-77-0445 | Gowan Malathion 8
036029 CA-79-0145 | Wilco “gopher Getter” Restricted Use Bait 1.80%
068722 CA-94-0028 | Roundup Export Herbicide
067858 FL-03-0012 | Dylox 80 Turf and Ornamental Insecticide
035253 FL-88-0013 | Soluble 97 Oil-455
054555 GA-03-0006 | Dormex
002749 ID-05-0004 | Sprout Nip Briquette
002749 ME-00-0004 | CIPC 98a
000655 MN-03-0014 | Prentox Synpren-Fish Toxicant
002749 MN-05-0007 | Sprout Nip Briquette
082597 MS-09-0016 | Prothor WP
002749 ND-05-0009 | Sprout Nip Briquette
056576 NE-08-0003 | Copper Sulfate Crystals
039924 NJ-02-0001 | Universal Chemicals Sodium Hypochlorite
056228 NV-01-0006 | Compound Drc-1339 98% Concentrate-Livestock Nest & Fodder Depredations
036029 NV-07-0008 | Wilco Gopher Getter Restricted Use Bait
060217 OR-03-0023 | Sprout Nip Emulsifiable Concentrate
002749 OR-06-0022 | Spud NIC-3 EC
000655 PA-86-0009 | Prentox Vapon 4e
072642 PR-04-0007 | Elector
056228 TN-02-0001 | Compound Drc-1339 Concentrate-Feedlots
056228 TN-02-0002 | Compound Drc-1339 Concentrate-Staging Areas
084127 WA-07-0018 | Ethoywrap
066158 WA-92-0026 | Di-Syston 8
002749 WI-07-0003 | Sprout Nip Briquette

Table 2.—Section 3 Registrations Cancelled for 2010 Non-Payment of Maintenance Fee
Registration No. | Product Name
000052-00063 | West Sanikleen
000211-00063 | Pro-Tech Disinfectant Cleaner
000278-00045 | Cuprogen Swimming Pool Algaecide
000278-00063 | Miami Liquid Chlorinating Disinfectant & Germicide
000303-00091 | Hi-Tor Germicidal Detergent
000421-00434 | #25 Quaternary Ammonium Cleaner-Disinfectant
000475-00337 | Swish
000655-00013 | Prentox Pyrethrum Powder 0.9%
000655-00133 | Prentox Pyrethrum Powder 1.3%
000655-00322 | Prentox Pyrethrum 1%
000655-00347 | Prentox Pyronyl Dry Concentrate
000655-00479 | Prentox Pco Pyrethrum Powder 0.9%
000655-00503 | Co-Rax Concentrate Rp
000655-00787 | Prentox Resmethrin Ec3
000675-00021 | Amphyl Disinfectant Deodorant Detergent
000675-00026 | Quatsyl 256
000675-00033 | Vani-Sol Disinfectant Washroom Cleaner
000675-00034 | Vani-Sol Per Diem
000675-00035 | Vani Sol Bulk Disinfectant Washroom Cleaner
000675-00057 | Formula GP
000777-00027 | Lysol Brand Disinfectant Aerosol Foam Deodorizing Cleaner
000777-00029 | Lysol Liquid Disinfectant Toilet Bowl Cleaner
000777-00051 | Lysol Brand Disinfectant Bathroom Cleaner for Basin Tub & Tile
000777-00058 | Lysol Brand Scouring Cream
000777-00060 | Lysol Brand Pine Action
000777-00063 | Lysol Brand Disinfectant Cling Thick Liquid Toilet Bowl Cleaner
000777-00064 | Lysol Brand Laundry Sanitizer (No Phosphate)
000777-00065 | Lysol Brand Disinfectant Foam Power Heavy Duty Bathroom Cleaner
000777-00067 | Lysol Brand Bathroom Touch-Ups Disinfectant Cleaning Wipes
000777-00069 | Extra Care Laundry Detergent
000777-00072 | Biosol
000777-00073 | Lysol Brand Disinfectant Trigger Spray
000777-00075 | Barrage Pine Action Cleaner
000777-00076 | QU-SOL Brand Disinfectant
000777-00077 | Lysol Brand Disinfectant Basin, Tub, & Tile Cleaner Pre-Moistened Wipe
000777-00078 | Lysol Brand Disinfectant Multi-Purpose Cleaner
000777-00079 | Lysol Brand Disinfectant Pine Scent Basin Tub & Tile Cleaner
000777-00086 | Lysol Brand Hard Water Stain Cleaner
000777-00095 | Rb102 (crisp Linen Lysol Disinfectant Pump)
000777-00096 | Biosol
001124-00077 | Franklin Sani-Turge 256
001124-00102 | Franklin AQ+
001278-00005 | Triangle Brand Copper Sulfate Instant Powder
001278-00008 | Triangle Brand Copper Sulfate Crystal
001459-00044 | Bullen Vegetation Killer
001459-00055 | Vegetation Killer
001459-00101 | Ready-To-Use Bathroom Cleaner and Disinfectant
001475-00146 | ENOZ Skat!
001543-00011 | Absorbine Supershield
001543-00013 | Absorbine Ultrashield Brand Residual Insecticide & Repellent Towelette
001677-00019 | Mikro-Chlor
001677-00096 | Q-Quat II
001677-00109 | Nomold
001677-00111 | Ecolab Pyrethrin Spray
001677-00112 | Entrol
001677-00130 | Solid Sani-Glide
001677-00148 | Quorum Clear/claro
001677-00157 | Solid Choice Plus
001677-00159 | TX-8848
001677-00190 | Coolingcare 2915
001677-00203 | Oxysept LDI
001677-00210 | Midland 655
001677-00217 | Ld Base Concentrate
001677-00218 | SD-2
001677-00220 | Sanova GPD Concentrate
001677-00221 | Dairyglide AM
001677-00222 | Sanova 335
001719-00024 | BLP Jack Tar Marine Finishes Vinyl Anti-Fouling 473-73
001719-00034 | Jack Tar Vinyl Antifouling Blue 473-33
001719-00038 | ZIN-TOX 202 Water Based Wood Preservative
001769-00373 | Danco Concentrate
001965-00055 | Vancide Th
002230-00016 | Xtra
002800-00058 | Humco Copper Sulfate Crystals
002915-00065 | Industrial Insect Spray III
003095-00067 | Pic Roach Control Paste
003095-00071 | Pic Ant Killer Gel
004170-00036 | Forest 5
004170-00056 | Scorch Plus Rtu Vegetation Killer
004170-00058 | Scorch Plus 1021
004482-00013 | Guard All Pine Odor Disinfectant Cleaner
004482-00019 | Mintrol
004987-00005 | Young's Rabon 7.76 Oral Larvicide Premix
005389-00009 | Kay Quaternary Sanitizer
005389-00021 | Chlorsan
005602-00209 | Hub States CIK
007056-00020 | Chem Spray Bug Ban Insect Repellent Spray
007056-00099 | CSA Household Flying Insect Killer #1
007056-00162 | CSA WB Total Release Fogger #1
007056-00180 | CSA Aerosol Insecticide Formula Seven
007056-00185 | IQ Multipurpose House &Garden Spray
007424-00001 | Jasco Green Termin-8 Wood Preservative
007537-00002 | Hobby's Ready To Use Rat and Mouse Bait
007779-00022 | Houghton Wb-207
008155-00008 | Husky Creme Cleanser
008155-00009 | High Fragrance Husky 802 *h/f Disinfectant Cleaner
008383-00004 | Sporicidin Brand Disinfectant Spray
008709-00009 | Pond Care Dimilin
008730-00061 | Disrupt Ofm
008730-00063 | Hercon Disrupt CM-Xtra
008730-00064 | Hercon Disrupt DFTM
008730-00066 | Hercon Disrupt Micro-Flake Ofm
008730-00067 | Disrupt Micro-Flake Wpsb
009152-00019 | Shur-San
009608-00005 | Termite Prufe Ready To Use
009630-00011 | M-Gard W510
010190-00013 | Penetize
011011-00002 | Esbro-Chlor
012455-00039 | Quintox Rat and Mouse Bait
012455-00057 | Quintox Mouse Seed
012455-00077 | Warfarin Rat and Mouse Bait Ready To Use Place Pacs
012455-00109 | Hawk All-Weather Bait Chunx AG
012455-00110 | Hawk Rodenticide AG
012455-00111 | Jaguar Rodenticide AG
012455-00112 | Hawk All-Weather Rodent Block AG
012455-00113 | Jaguar All Weather Bait Chunx AG
012455-00114 | Hawk Rodenticide Rtu Place Pac AG
012455-00115 | Jaguar Rodenticide Place Pacs AG
015142-00001 | Fly-Curb Insecticide Spray for Horses
025026-00006 | Insectaway Multi-Purpose Insecticide II
030573-00002 | Pyrellin E.C.
032977-00001 | Sterisol Germicide
033161-00019 | F-50 Fogging Compound
033658-00025 | Napropamide 80 MUP
034052-00003 | Sani Clean One-Step
034052-00011 | Bear-Cat 20 Plus
034688-00082 | Aquatreat DNM-80
034688-00083 | Aquatreat Dcd
036404-00001 | Nissin Niclon-70-Granular
036404-00002 | Calcium Hypochlorite Granular "star-Chlon"
036638-00032 | Nomate LRX MEC
038083-00001 | Myris-100
039272-00011 | Wepak Pine Disinfectant
039444-00008 | Micropur Mfl
039578-00001 | Finacide
039578-00002 | Finacide IPC
039578-00003 | Finacide Lq
039924-20001 | Universal Chemicals Sodium Hypochlorite
042177-00022 | Olympic Universal Chlorinator Cartridge
042964-00005 | A-33
042964-00014 | Omega
042964-00016 | Aquinoc
042964-00025 | A-33 Dry
042964-00030 | A-428-N
044392-00001 | MBC 115
044616-00022 | Temephos Technical
045220-00009 | Diatom Dust Insect Powder
045458-00019 | Maintain Pool Pro Concentrated Stabilized Pool Chlorinating Sticks
046579-00010 | Resmethrin Ulv 3-9 Multipurpose Spray
046579-00011 | Resmethrin 5-1.5 Contact and Space Spray
046579-00012 | Resmethrin ULV 3 Multipurpose Spray
047550-00001 | Elite Flea and Tick Shampoo
048668-00013 | Ppp Flea &Tick Mousse II
049403-00002 | Nipacide Bcp
049403-00003 | Nipacide BCP Solution
049403-00019 | Nipacide Pcmc
049403-00021 | Nipacide OPP
049403-00024 | Nipacide CI
049403-00035 | Nipacide C40
050404-00011 | Cic Residual Insecticide No.2
052287-00013 | Weed-Free One Eleven
053575-00023 | Isomate-Lptb Pheromone
053575-00027 | Isomate-Gbm Plus
053842-00005 | Coastal 781
055392-00004 | Rabon Mineral Block for Cattle and Horses
058300-00017 | Sanicide Pro-2
058618-00001 | Chlorine Liquefied Gas Under Pressure
059807-00009 | Marathon II
059807-00010 | Sextant 50 Wp Fungicide
059825-00004 | CX 1078
061181-00001 | Multi-Wash
061181-00002 | Multi-Wash Mini
062401-00006 | Nordico Kitchen Cleaning and Disinfectant Wipes
062575-00010 | Global Technical Suffa
062575-00013 | Gilmectin 2.0% EC
063838-00007 | Bcdmh Granules
064864-00059 | Shield DPA 31%
064898-00004 | Rout
065009-00001 | Sodium Hypochlorite
065864-00002 | Safe-T Green 18 Turf Fungicide/nematicide
066551-00006 | Buzz Away Insect Repellent Towelettes
066887-00005 | LA Chemchlor (manufacturing Use Only)
068186-00002 | E-Rase Ready-To-Use
068329-00001 | Alpha 133
069191-20001 | Synchlor 12.5% Sodium Hypochlorite Solution
069361-00014 | Triclopyr Technical
069361-00015 | Triclopyr 3 Herbicide
069361-00016 | Triclopyr Butoxy Ethyl Ester
069361-00024 | Relief Herbicide
069361-00025 | Eliminator Herbicide
069834-00012 | Messenger
069834-00013 | Messenger Seed Treatment
070126-00001 | Organic Resources Multipurpose Insecticide
070191-00001 | Organica Neem Oil Insecticidal Soap Concentrate
070191-00002 | Organica Ready-To-Use K+neem Insecticidal Soap
070252-00009 | Nations Ag Technical Mefenoxam
070252-00010 | Mefenoxam 2E
070252-00011 | Mefenoxam 2l
070404-00010 | Hygate 4000
070728-00001 | Promote Tm Prochek Gp99.5 L
070799-00007 | State Formula 400 Parch
070845-00001 | Environ 4h2o
070909-00004 | The Dragonfly Carbon Dioxide Canister
071272-00001 | Technical Silver
071645-00003 | Zinc Oxide
071771-00004 | Messenger Seed Treatment
071986-00001 | XT-2000 Orange Oil
072112-00007 | Prokoz 008
072112-00008 | Prokoz 009
072112-00009 | Prokoz 010
072112-00010 | Prokoz 011
072315-00002 | Sodium Hypochlorite-5
072315-00003 | Sodium Hypochlorite 7
072500-00010 | Kaput-D Wax Blocks with Diphacinone
072639-00001 | LT Biosyn, Inc. Technical 3-Indolebutyric Acid
072639-00003 | Lt Biosyn 6-Benzylaminopurine Technical
072639-00004 | Kinetin Technical
072639-00005 | LT Biosyn Technical Gibberellic Acid (GA3)
072639-00006 | Gibberellin A4+7 Technical
072642-00006 | Elector Loose Mineral Mix
072680-00001 | Vine-X
072852-00001 | Electrolite 25
072852-00002 | Electrolite 31
072898-00002 | Virosoft CP4
072947-00001 | Egisprene Insect Growth Regulator
073073-00001 | Klor-San
073637-00003 | Sutan + 6.7-E Selective Herbicide
073637-00004 | Sutan Technical
073825-00001 | Ecozap Wasp & Hornet Insecticide
073825-00002 | Ecozap Crawling and Flying Insecticide
073873-00003 | Anti-Growth
073912-00002 | ANTX 75
073912-00003 | Roach X Paste
074412-00001 | Trident 51
074530-00005 | Glyphosate Pro Herbicide
074530-00012 | Helosate Aq
074530-00013 | Helosate Ex Herbicide
074530-00027 | Helm Propanil4
074530-00031 | Kendo EC Insecticide
074530-00035 | Kendo Insecticide
074621-00003 | Bug Stomper Spray &Wipe for Horses
074627-00005 | Zeocide Ag
075512-00002 | Ebiox Trukleen Spray
075512-00003 | Ebiox Trukleen Concentrate
075801-00007 | Envirotech WP
075801-00008 | Stump Guard
075832-00001 | Fprl Acc 50 Wood Preservative
079755-00003 | F10SC Veterinary Disinfectant
081038-00001 | Skeet-Daddle Fogging Insecticide
081206-00001 | Oculus Microcyn Sanitizer
082052-00005 | Greenmatch Burndown Herbicide
082133-00001 | Bkl Laminate
082493-00001 | Glyphosate Technical
082493-00002 | Glygran Wdg
082542-00006 | Ethofumesate 43 Sc Herbicide
082542-00007 | Oxyfluoren Technical
082542-00010 | Metsulfuron-Methyl 60df
082542-00013 | Oxyfluorfen 4 SC Herbicide
082542-00017 | Imidacloprid 75% Wdg Insecticide
082542-00018 | Imidacloprid 75% Wdg Termiticide
082542-00021 | Technical Metsulfuron-Methyl
082633-00009 | Sharda Nicosulfuron Technical Herbicide
082706-00001 | Agro-Guard Z
082723-00001 | Big 6 Plus
082757-00006 | TCS Growstar Atrazine 1.38% + Fertilizer
082971-00001 | Bluewater
083028-00006 | NCA Biotech, Inc. GA3 4%
083028-00009 | Rootgro
083028-00011 | Nca Goldengro R
083028-00012 | Nca Megagro L
083028-00014 | NCA GA3 20%
083070-00003 | Enforce 1.47% Fl
083070-00006 | Imidacloprid 2 Flowable Mup
083070-00007 | Enforce 0.2g
083103-00005 | Hdh Vinegar 20
083222-00016 | Tebucure 3.6F Fungicide
083424-00001 | Moth-Be-Gone Moth Balls 1
083424-00003 | Moth Avoid Mosture Absorbing Moth Ball Sachet
083487-00001 | Uncle Albert's Super Smart Ant Bait
083529-00010 | Nicosulfuron 75 WDG
083529-00017 | Nicosh 4sc
083857-00002 | X-Mold!
083884-00005 | Mitin FF High Conc.
083918-00001 | Genchlor 150
083918-00002 | Genchlor 100
083918-00003 | Genchlor 60
083979-00004 | Rotam MEP 4.2%
083979-00005 | Rotam Bifen 7.9%
084127-00001 | Ethoywrap
084224-00001 | Eckroat Gopher Getter Bait
084229-00004 | Technical Abamectin
084557-00001 | TPTH Technical Fungicide
084684-00001 | Canopy
084708-00001 | Green Dragon Roach Kill
084836-00001 | Regatta 80wp Agricultural Herbicide
084836-00002 | Regatta 80wp Ornamental Herbicide
084836-00003 | Regatta 75wg Agricultural Herbicide
084836-00004 | Regatta 75wg Ornamental Herbicide
084836-00005 | Regatta 2g Ornamental Herbicide
084836-00006 | Regatta Ornamental Herbicide
084836-00007 | Regatta 10g Herbicide
084930-00008 | Arc-Nico 75 WG
084930-00012 | Arc-Lamcy
085131-00001 | Tribenuron Methyl Technical
085131-00002 | Thilfensulfuron-Methyl Technical
085607-00002 | Reddick Bro-Mean C-2r
085607-00003 | Reddick Bro-Mean C-33
085607-00004 | Reddick Bro-Mean C-O
085719-00001 | Super-Chlor

IV. Provisions for Disposition of Existing Stocks

The effective date of cancellation will be the date of the cancellation order. The orders effecting these requested cancellations will generally permit a registrant to sell or distribute existing stocks until January 15, 2011, one year after the date on which the fee was due.

Existing stocks are those stocks of registered pesticide products which are currently in the United States and which have been packaged, labeled, and released for shipment prior to the effective date of the cancellation order. Unless the provisions of an earlier order apply, existing stocks already in the hands of dealers or users can be distributed, sold, or used legally until they are exhausted, provided that such further sale and use comply with the EPA-approved label and labeling of the affected product. Exception to these general rules will be made in specific cases when more stringent restrictions on sale, distribution, or use of the products or their ingredients have already been imposed, as in a special review action, or where the Agency has identified significant potential risk concerns associated with a particular chemical.

V. Docket

Complete lists of registrations cancelled for non-payment of the maintenance fee will also be available for reference during normal business hours in the OPP Regulatory Public Docket, Rm. S-4400, One Potomac Yard (South Bldg.), 2777 S. Crystal Dr., Arlington, VA. Product-specific status inquiries may be made by calling toll-free, 1-800-444-7255.

List of Subjects

Environmental protection, Administrative practice and procedure, Pesticides and pests.

Dated: July 15, 2010.
Steven Bradbury,
Director, Office of Pesticide Programs.

[FR Doc. 2010-18092 Filed 7-27-10; 8:45 am]

BILLING CODE 6560-50-S